DEPARTMENT OF AGRICULTURE

Animal and Plant Health Inspection Service

[Docket No. APHIS-2024-0012]

Privacy Act of 1974; System of Records

AGENCY: Animal and Plant Health Inspection Service, U.S. Department of Agriculture.

ACTION: Notice of a modified system of records.

SUMMARY: Pursuant to the Privacy Act of 1974 and Office of Management and Budget Circular No. A-108, the U.S. Department of Agriculture (USDA) gives notice that an agency component, the Animal and Plant Health Inspection Service (APHIS), proposes to modify an existing system of records notice titled, APHIS Veterinary Services User Fee System, USDA/APHIS-18. The system will be renamed the APHIS User Fee System, USDA/APHIS-18. This system, among other things, helps APHIS track, collect, and process fees associated with services APHIS provides.

DATES: In accordance with 5 U.S.C. 552a(e)(4) and (11), this system of records notice will become applicable upon publication, subject to a 30-day notice and comment period in which to comment on the routine uses described in the “ROUTINE USES OF RECORDS MAINTAINED IN THE SYSTEM” section of this system of records notice. Please submit any comments by May 12, 2025.

ADDRESSES: You may submit comments by either of the following methods:

• Federal eRulemaking Portal: Go to www.regulations.gov. Enter APHIS-2024-0012 in the Search field. Select the Documents tab, then select the Comment button in the list of documents.

• Postal Mail/Commercial Delivery: Send your comment to Docket No. APHIS-2024-0012, Regulatory Analysis and Development, PPD, APHIS, Station 2C-10.16, 4700 River Road, Unit 25, Riverdale, MD 20737-1238.

Any comments we receive on this docket may be viewed at www.regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For Agency Privacy Act questions concerning this system of records notice, please contact Ms. Tonya Woods, Director of the Freedom of Information Act/Privacy Act Coordinator, 5601 Sunnyside Avenue, Beltsville, MD 20705; phone: (301) 851-4076; email: APHISPrivacy@usda.gov. For general questions concerning this system of records, please contact the Veterinary Services (VS) Budget Director or the Plant Protection and Quarantine Program (PPQ) Director of Cost and Fee Analysis, Pest Exclusion and Import, 5601 Sunnyside Avenue, Beltsville, MD 20705. For USDA Privacy Act questions, please contact the USDA Chief Privacy Officer, Information Security Center, Office of Chief Information Officer, USDA, Jamie L. Whitten Building, 1400 Independence Ave. SW, Washington, DC 20250; email: USDAPrivacy@usda.gov.

SUPPLEMENTARY INFORMATION: The Animal and Plant Health Inspection Service (APHIS) of the Department of Agriculture (USDA) is modifying an existing system of records notice for the Veterinary Services User Fee System USDA/APHIS-18, which was last published on March 14, 2012, in its entirety in the Federal Register (77 FR 15033-15037, Docket No. APHIS-2010-0105). APHIS is modifying the system of records notice to rename the system as “APHIS User Fee System, USDA/APHIS-18” to cover the entirety of user fee and reimbursable overtime collections under APHIS purview. The system is used to maintain a record of activities conducted by the agency pursuant to its responsibilities under the Debt Collection Act of 1982 (31 U.S.C. 3701 et seq.), the Debt Collection Improvement Act of 1996 (31 U.S.C. 3711 et seq.), the Food, Agriculture, Conservation and Trade Act of 1990 (Pub. L. 101-624, later 7 U.S.C. 2279 et seq.), Plant Protection Act (7 U.S.C.7701 et seq.), and the Animal Health Protection Act (7 U.S.C. 8301 et seq.) for user fee and reimbursable overtime services.

To ensure importers, exporters, and means of conveyances (airplanes, vessels, trucks, and railroad cars) do not introduce pests or diseases when they move plants, plant products, plant byproducts, animals, birds, poultry, animal products, animal byproducts, germplasm, organisms, and vectors, APHIS performs services related to movement of these items. APHIS incurs costs associated with plant and animal inspections and other services, such as the costs of maintaining import centers and quarantine facilities, diagnostic testing, inspectors' salaries, supplies, and other miscellaneous expenses. Any person requesting service or person for whom a service is provided related to the importation, entry, or exportation of a regulated article or means of conveyance is required to pay for the expenses of such services.

Among other things, this system tracks, collects, and processes user fees for services that APHIS provides at field offices, service centers, port offices, and the National Veterinary Services Laboratories in Ames, IA. Customers incurring user fees must remit payment when APHIS provides the service. The user fee system generates documents for customers that serve as reports or invoices for the fees. Users may also request approval for an APHIS credit account, which requires the submission of an application that includes the person's social security and/or tax identification numbers. Information obtained in the credit account application is entered into the Financial Management Modernization Initiative, the official APHIS financial system. Expansion of this system will allow for APHIS to track, collect, and process fees associated with services APHIS provides.

In addition to the above, APHIS is making the following changes to the system of records:

• Updating the system location and system manager;

• Updating the authority to add the appropriate U.S. Code citation;

• Revising the purpose of the system to encompass programs under APHIS' purview that may require user fees and collection of those user fees;

• Expanding the categories of individuals and categories of records to include programs under APHIS' purview for which user fees are collected;

• Revising the record source categories to more accurately identify the sources of information maintained in the system;

• Updating the policies and practices for storage, retrievability, and retention and disposal of records in the system;

• Updating the system safeguards;

• Updating the notification, record access, and contesting record procedures; and

• Providing an updated full list of routine uses in the routine uses section of the document published with this notice.

SYSTEM NAME AND NUMBER:

APHIS User Fee System, USDA/APHIS-18.

SECURITY CLASSIFICATION:

Unclassified.

SYSTEM LOCATION:

The Animal and Plant Health Inspection Service (APHIS) located at 5601 Sunnyside Avenue, Beltsville, MD 20705, is responsible for the system of records notice. Certain records are maintained in a government-approved cloud server accessed through secure data centers in the continental United States. Paper files are held at various APHIS national, district, and field offices in locked file cabinets with secure keys. The applications/systems are housed within Microsoft Azure Cloud in the Eastern and Western regions.

SYSTEM MANAGER(S):

APHIS, VS Budget Director, 5601 Sunnyside Avenue, Beltsville, MD 20705; and APHIS PPQ Director, Cost and Fee Analysis, Pest Exclusion and Import Programs; 5601 Sunnyside Avenue, Beltsville, MD 20705.

AUTHORITY FOR MAINTENANCE OF THE SYSTEM:

The Debt Collection Act of 1982 (31 U.S.C. 3701 et seq.), the Debt Collection Improvement Act of 1996 (31 U.S.C. 3711 et seq.), the Food, Agriculture, Conservation and Trade Act of 1990 (Pub. L. 101-624, later 7 U.S.C. 2279 et seq.), and the Animal Health Protection Act (7 U.S.C. 8301 et seq.).

PURPOSE(S) OF THE SYSTEM:

The APHIS User Fee System (UFS) is a billing and collections system that maintains information about the individuals, organizations, and companies required to pay user fees. Information maintained in the UFS includes customer identification, application, and service request information; program service records and factors used to calculate charges; customer-supplied reports on activities or arrivals and fees remitted; and payment compliance records. Additionally, the APHIS UFS stores billing details, adjustments to invoices, and payment receipt information including dates, methods of payment, and payment amounts.

APHIS collects user fees and reimbursable overtime fees for import-, export-, and entry-related services as well as any other fees associated with agricultural quarantine and inspection.

CATEGORIES OF INDIVIDUALS COVERED BY THE SYSTEM:

Categories of individuals covered in this system, include, but are not limited to, those required to submit user fee and reimbursable overtime payments to APHIS. This includes those billed through the system, as well as those submitting applications for review or otherwise assessed fees under various fee programs.

CATEGORIES OF RECORDS IN THE SYSTEM:

Depending on the user fees applied to a customer, business, or organization, the system contains information such as the customer/user's name, address (including city, county, State, and postal code), telephone and fax numbers, email address; the name of the user's business or organization and its telephone and fax numbers; email address and/or Dun & Bradstreet number. For customers requesting a credit account, a social security and/or tax identification number is required. The system also contains transactions against the user's credit account, including charges and payments made, dates and types of services, and APHIS credit account numbers. The system also stores application information collected when the fee remitter (submitter) submits an application in order to pay user fees, which also includes the type of application. The system also stores fee processing information that includes billing details, adjustments to invoices including credit and debit memos, and receipt information including date, mode, and amount of payment. A record of APHIS services provided is also stored and includes service requested, service location, type of service activity, date of service, outcome of service, and factors (hours, counts, fee types and rates) used to calculate service charges and record of the payment method at time of service. Also stored are customer-supplied reports on activities or arrivals and fees remitted and payment compliance records including audits and debt collection.

RECORD SOURCE CATEGORIES:

Information in this system is obtained from several sources, including directly from individuals, companies, or organizations required to submit user fees to APHIS; from materials supplied by submitters or individuals acting on their behalf; and from other relevant sources.

ROUTINE USES OF RECORDS MAINTAINED IN THE SYSTEM, INCLUDING CATEGORIES OF USERS AND PURPOSES OF SUCH USES:

In addition to those disclosures generally permitted under 5 U.S.C. 552a(b) of the Privacy Act, records contained in the system may be disclosed outside the U.S. Department of Agriculture (USDA) as a routine use under 5 U.S.C. 552a(b)(3), to the extent that such uses are compatible with the purposes for which the information was collected. Such permitted routine uses include the following:

(1) To certain Federal agencies, including the Department of the Treasury, to obtain assistance in identifying and locating individuals who are delinquent in their payments of debt owed to the Federal Government while receiving Federal salary, tax refunds, or benefit payments, for the purpose of collecting debts;

(2) To a debt collection agency when the USDA determines that such referral is appropriate for collecting the debtor's account as provided for in 31 U.S.C. 3718;

(3) To contractors and their agents, grantees, experts, consultants, and others performing or working on a contract, service, grant, cooperative agreement, or other assignment for the USDA, when necessary to accomplish an agency function related to this system of records;

(4) To consumer reporting agencies when USDA determines that such referral is appropriate in accordance with 31 U.S.C. 3711(f);

(5) When a record on its face, or in conjunction with other records indicates a violation or potential violation of law, whether civil, criminal, or regulatory in nature, and whether arising by general statute or particular program, statute, or by regulation, rule, or order issued pursuant thereto, USDA may disclose the record to the appropriate agency, whether Federal, foreign, State, Tribal, local, or other public authority responsible for enforcing, investigating, or prosecuting such violation or charged with enforcing or implementing the statute, rule, regulation, or order issued pursuant thereto, if the information disclosed is relevant to any enforcement, regulatory, investigative, or prosecutive responsibility of the receiving entity;

(6) To the Department of Justice when: (a) USDA or any component thereof; or (b) any employee of USDA in his or her individual capacity where the Department of Justice has agreed to represent the employee; or (c) the United States Government, is a party to litigation or has an interest in such litigation, and by careful review, USDA determines that the records are both relevant and necessary to the litigation and the use of such records by the Department of Justice is deemed by USDA to be for a purpose for which USDA collected the records;

(7) In an appropriate proceeding before a court, grand jury, or administrative or adjudicative body or official, when the USDA or other agency representing the USDA determines that the records are both relevant and necessary to the proceeding; or in an appropriate proceeding before an administrative or adjudicative body when the adjudicator determines the records to be relevant to the proceeding;

(8) To appropriate agencies, entities, and persons when: (a) USDA suspects or has confirmed that the security or confidentiality of information in the system of records has been compromised; (b) USDA has determined that as a result of the suspected or confirmed breach there is a risk of harm to individuals, USDA (including its information systems, programs, and operations), the Federal Government, or national security; and (c) the disclosure made to such agencies, entities, and persons is reasonably necessary to assist in connection with USDA's efforts to respond to the suspected or confirmed compromise and prevent, minimize, or remedy such harm;

(9) To another Federal agency or Federal entity, when information from this system of records is reasonably necessary to assist the recipient agency or entity in (a) responding to a suspected or confirmed breach or (b) preventing, minimizing, or remedying the risk of harm to individuals, the agency (including its information systems, programs, and operations), the Federal Government, or national security;

(10) To a Congressional office in response to an inquiry from that Congressional office made at the written request of the individual about whom the records pertain;

(11) To USDA contractors, partner agency employee or contractors, or private industry employed to identify patterns, trends, or anomalies indicative of fraud, waste, or abuse; and

(12) To the National Archives and Records Administration (NARA) or other Federal Government agencies pursuant to records management inspections being conducted under the authority of 44 U.S.C. 2904 and 2906.

POLICIES AND PRACTICES FOR STORAGE OF RECORDS:

APHIS maintains paper and electronic records. In the case of electronic records, APHIS secures them in the Azure GovCloud, which is considered to be a secure IT environment. Electronic data is protected against loss or corruption with backups stored in Azure Storage and Backup Vaults. This allows for recovery at an alternate site in event of a failure at the primary site. Paper records are maintained in APHIS offices (see SYSTEM LOCATION above) in locked cabinets with secured keys.

POLICIES AND PRACTICES FOR RETRIEVAL OF RECORDS:

Records in the system are retrieved by customer names; current addresses and locations for the previous 7 years; telephone and fax numbers; email addresses; taxpayer identification numbers; claim numbers; dates of service; types of services provided; payments made; and APHIS credit account numbers.

POLICIES AND PRACTICES FOR RETENTION AND DISPOSAL OF RECORDS:

In accordance with the General Records Schedule (GRS) for Financial Management and Reporting Records (GRS 1.1 item 010), records are destroyed through shredding or deletion 6 years after final payment or cancellation, but longer retention is authorized if required for business use.

ADMINISTRATIVE, TECHNICAL, AND PHYSICAL SAFEGUARDS:

Electronic records are stored on secure file servers. User access is restricted within the system to relevant data to ensure the integrity of the data collected and thereby the accuracy is preserved. The primary implementation is through assignment of roles to user accounts. Each role is mapped to a collection of permissions to access system data and functionality. Administrative roles have the broadest access to system data. All users are restricted to the information only pertaining to their particular role while others may have access to multiple sets of data depending on the assigned user roles.

Access to certain portions of the system requires certain levels of authorization through USDA eAuthentication, which is a system that enables individuals to obtain user-identification accounts with password-protected access to certain USDA Web-based applications and services through the internet. Users are trained and are required to formally confirm that they understand value and sensitivity of data in the system, and users receive formal system training and are required to pass a proficiency test before being given access to the system. Persons who are not USDA employees have a lower level eAuthentication account and will only have access to their own records to input certain information.

The system is continuously monitored to ensure changes to the data are logged and reviewed. Auditing is performed to also alert the database administrators to privileged action taken against the database objects. The logs are correlated and saved at an Enterprise level to aid forensic investigation if the need arises. Access control technical measures are in place and operating to ensure only users with approval are able to access the data, and the concept of least privileged is enforced to ensure only minimum access and privileges are granted to enable users to perform job functions.

Paper files are kept in a safeguarded environment with controlled access only by authorized personnel. All APHIS users are required to complete appropriate training to learn requirements for safeguarding records maintained under the Privacy Act.

RECORD ACCESS PROCEDURES:

All requests for access to records must be in writing and should be submitted to the APHIS Privacy Act Officer, 5601 Sunnyside Avenue, Beltsville, MD 20705; or by facsimile (301) 734-5941; or by email APHISPrivacy@usda.gov. In accordance with 7 CFR 1.112 (Procedures for requests pertaining to individual records in a record system), the request must include the full name of the individual making the request; the name of the system of records; and preference of inspection, in person or by mail. In accordance with 7 CFR 1.113, prior to inspection of the records, the requester shall present sufficient identification (e.g., driver's license or employee identification card) to establish the requester is the individual to whom the records pertain. In addition, if an individual submitting a request for access wishes to be supplied with copies of the records by mail, the requester must include with his or her request sufficient data for the agency to verify the requester's identity.

CONTESTING RECORD PROCEDURES:

Individuals seeking to contest or amend records maintained in this system of records must direct their request to the address indicated in the “RECORD ACCESS PROCEDURES” paragraph, above and must follow the procedures set forth in 7 CFR 1.116 (Request for correction or amendment to record). All requests must state clearly and concisely what record is being contested, the reasons for contesting it, and the proposed amendment to the record.

NOTIFICATION PROCEDURES:

Individuals may be notified if a record in this system of records pertains to them when the individuals request information using the same procedures as those identified in the “RECORD ACCESS PROCEDURES” paragraph above.

EXEMPTIONS CLAIMED FOR THE SYSTEM:

None.

HISTORY:

77 FR 15033 (March 14, 2012): First publication.

APHIS sent a report on the modified system of records, required by 5 U.S.C. 552a(r), as implemented by Office of Management and Budget Circular A-108, to the Chairman of the Senate Committee on Homeland Security and Governmental Affairs; the Ranking Member of the Senate Committee on Homeland Security and Governmental Affairs; the Chairman on the House Committee on Oversight and Reform, House of Representatives; the Ranking Member of the House Committee on Oversight and Reform, House of Representatives; and the Administrator, Office of Information and Regulatory Affairs, Office of Management and Budget.

Done in Washington, DC, this 4th day of April 2025.
Michael Watson,
Administrator, Animal and Plant Health Inspection Service.

[FR Doc. 2025-06235 Filed 4-10-25; 8:45 am]

BILLING CODE 3410-34-P